FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Global Ocean Agency Lines, L.L.C., 258 Fawn Drive, Sedona, AZ 86336, Officer: Timothy J. Cummings, Managing Director, (Qualifying Individual).

Amerasia Line, Inc., 28815 King Arthur Court, Rancho Palos Verdes, CA 90275, Officers: Shally Liang, President/CEO, (Qualifying Individual), Victor Lin, Secretary.

K & S Freight Systems Inc., 17099 SW 54 Court, Miramar, FL 33027, Officer: Nelson Solano, President, (Qualifying Individual).

Select Air Cargo Services, Inc. dba PAC, International Logistics Company, 12801 South Figueroa Street, Officers: Thomas W. Young, Vice President, (Qualifying Individual), Chee Tao Tsui, President/CEO.

Express Freight International, Inc., 7833 NW 72nd Avenue, Miami, FL 33166, Officer: Roberto Lopez, President, (Qualifying Individual).

Laufer Air Inc. dba Laufer Air Line Inc., SO International Unlimited, 20 Vessey Street S. 601, New York, NY 10007, Officer: Mark Laufer, President, (Qualifying Individual).

Omni Logistics, Inc., 3340 Greens Road Bldg., C #450, Houston, TX 77032, Officers: Mark Andrew McDowell, Treasurer, (Qualifying Individual), Jason Smith, President.

Non-Vessel Operating Common Carrier and Ocean Freight Forwarder Transportation Intermediary Applicants:

GII International, Inc., 47 West 34th Street, Suite 412, New York, NY 10001, Officers: Juanita Geronimo, President, (Qualifying Individual), May Soriano, Vice President.

Meyer's Van Lines, 370 Concord Avenue, Bronx, NY 10454, Officers: Yorah Eshel,Vice President, (Qualifying Individual), Ofer Prori, CEO.

Bates, Inc. dba Bates Shipping and Trading, 399 Koscluszko Street, Suite 10, Brooklyn, NY 11221, Officer: Donna Bates, President, (Qualifing Individual).

Asain Link Logistics LLC dba A.L.L., 829 Graves Street, Kernersville, NC 27284, Officer: David W. Reich, Jr., Member Manager, (Qualifying Individual).

Ocean Freight Forwarder—Ocean Transportation Intermediary Applicants:

New England Household Moving & Storage, Inc., 104 Bartzak Drive, Holliston, MA 01746, Officer: Jeanine Patricia Kelly-Coburn, President, (Qualifying Individual).

ABS-CBN International dba The Filipino Channel, 859 Cowan Road, Burlingame, CA 94010, Officers: Enrico Gatchalian, Manager, (Qualifying Individual), Eugenio L. Lopez, III, Chairman.

Global U.S.A., Inc., 32 Broadway, Suite 1718, New York, NY 10004, Officers: Mei Li, Vice President, (Qualifying Individual), Malvern Kaye, President.

Odyssey International, Inc., 39 Old Ridgebury Road, Danbury, CT 06817, Officers: Robert H. Shellman, CEO, (Qualifying Individual), Douglas A. Johnston, Director.

Dated: May 9, 2003.
Bryant L. VanBrakle,
Secretary.

[FR Doc. 03-12034 Filed 5-13-03; 8:45 am]

BILLING CODE 6730-01-P